DEPARTMENT OF THE TREASURY

Customs Service

[T.D. 00-12]

Retraction of Revocation Notice

AGENCY: U.S. Customs Service, Department of the Treasury.

ACTION: General notice; correction.

SUMMARY: This document corrects an erroneous Treasury Decision (T.D.) designation on a document recently published in the Federal Register.

SUPPLEMENTARY INFORMATION:

Background

On February 25, 2000, Customs published in the Federal Register (65 FR 10152) a general notice advising the public that three Customs broker license references had been erroneously included in a list of revoked Customs broker licenses previously published in the Federal Register. However, that February 25, 2000, notice was incorrectly designated in the headings section as Treasury Decision (T.D.) 00-9; the designation should have read “T.D. 00-12”. This document corrects that designation error.

Correction of Publication

In the general notice published in the Federal Register at 65 FR 10152 on February 25, 2000, as Treasury Decision 00-9, the reference to “T.D. 00-9” in the headings section is corrected to read T.D. 00-12”.

Dated: February 28, 2000.
Harold M. Singer,
Chief, Regulations Branch.

[FR Doc. 00-5080 Filed 3-1-00; 8:45 am]

BILLING CODE 4820-02-P